DEPARTMENT OF COMMERCE

National Oceanic and Atmospheric Administration

[I.D. 040501E]

Marine Mammals; File No. 1000-1617

AGENCY: National Marine Fisheries Service (NMFS), National Oceanic and Atmospheric Administration (NOAA), Commerce.

ACTION: Receipt of application.

SUMMARY: Notice is hereby given that Whitlow Au, Ph.D., University of Hawaii, Hawaii Institute of Marine Biology, Marine Mammal Research Program, PO Box 1106, Kailua, Hawaii 96734, has applied in due form for a permit to take several species of small cetaceans for scientific research off the coasts of Hawaii and California and in international waters.

DATES: Written or telefaxed comments must be received on or before May 14, 2001.

ADDRESSES: The application and related documents are available for review upon written request or by appointment in the following office(s):

Permits and Documentation Division, Office of Protected Resources, NMFS, 1315 East-West Highway, Room 13130, Silver Spring, MD 20910 (301) 713-2289;

Southwest Region, NMFS, 501 West Ocean Blvd., Suite 4200, Long Beach, CA 90802-4213; phone (562) 980-4001; fax (562) 980-4018; and

Pacific Islands Area Office, NMFS, 2570 Dole Street, Room 106, Honolulu, HI 96822-2396; phone (808) 943-1221; fax (808) 943-1240.

FOR FURTHER INFORMATION CONTACT: Lynne Barre or Trevor Spradlin, (301) 713-2289.

SUPPLEMENTARY INFORMATION: The subject permit is requested under the authority of the Marine Mammal Protection Act of 1972, as amended (MMPA; 16 U.S.C. 1361 et seq.) and the Regulations Governing the Taking and Importing of Marine Mammals (50 CFR part 216).

The overall objective of the proposed research is to determine aspects of the population dynamics and behavior of small cetaceans around Hawaii and California, focusing on the spinner dolphin (Stenella longirostris) as a model. The applicant is requesting authorization for genetic sampling and suction-cup tagging to investigate population structure, genetic variability, dispersal patterns, social structure, foraging behavior, and diving behavior. Tissue samples for genetic analyses will be obtained by skin-swabbing techniques, or if this technique does not yield sufficient amounts of DNA, by biopsy sampling. The applicant is also requesting authorization to conduct behavioral observations and photo identification to supplement genetic and tagging data. The permit is requested for five years.

The applicant is requesting authorization to take spinner dolphins (Stenella longirostris) both in the Eastern Tropical Pacific (ETP) and in other Pacific waters. For the ETP, the applicant is requesting the following number of animals to be taken annually: 300 for behavioral observations and photo identification; 3 for suction cup tagging; and 50 for tissue sampling. The applicant also requests annual takes of 300 animals incidental to suction tagging, 300 animals incidental to tissue sampling and 300 animals incidental to behavioral observations and photo identification.

Outside the ETP, the applicant is requesting the following number of spinner dolphins to be taken annually: 2000 for behavioral observations and photo identification; 15 for suction cup tagging; and 150 for tissue sampling. The applicant also requests annual takes of 400 animals incidental to suction tagging, 1000 animals incidental to tissue sampling and an unlimited number of animals incidental to behavioral observations and photo identification.

The applicant is also requesting authorization to take the following species of small cetaceans: short-finned pilot whale (Globicephala macrorhynchus), melon-headed whale (Peponocephala electra), false killer whale (Pseudorca crassidens), pygmy killer whale (Feresa attenuata), pantropical spotted dolphin (Stenella attenuata), striped dolphin (Stenella coeruleoalba), short-beaked common dolphin (Delphinus delphis), Risso’s dolphin (Grampus griseus), rough-toothed dolphin (Steno bredanensis), bottlenose dolphin (Tursiops spp.), Pacific white-sided dolphin (Lagenorhynchus obliquidens), dwarf sperm whale (Kogia simus), and pygmy sperm whale (Kogia breviceps).

For each species listed above, the applicant is requesting the following number of animals to be taken annually: 300 for behavioral observations and photo identification; 3 for suction cup tagging; and 50 for tissue sampling. The applicant also requests annual takes of 400 animals incidental to suction tagging, 1000 animals incidental to tissue sampling and an unlimited number of animals incidental to behavioral observations and photo identification.

The applicant is currently conducting bioacoustic and behavioral research on spinner dolphins, spotted dolphins, bottlenose dolphins, pilot whales and rough-toothed dolphins pursuant to General Authorization Letter of Confirmation No. 707-1478, and has requested that these activities be incorporated into the requested permit if issued.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: April 6, 2001.
Ann D. Terbush,
Chief, Permits and Documentation Division, Office of Protected Resources, National Marine Fisheries Service.

[FR Doc. 01-9103 Filed 4-11-01; 8:45 am]

BILLING CODE 3510-22-S